DEPARTMENT OF THE INTERIOR

National Park Service

National Register of Historic Places; Notification of Pending Nominations and Related Actions

Nominations for the following properties being considered for listing or related actions in the National Register were received by the National Park Service before October 28, 2006. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by November 24, 2006.

John W. Roberts,
Acting Chief, National Register/National Historic Landmarks Program.

ALABAMA

Elmore County

First Baptist Church of Wetumpka, 205 West Bridge St., Wetumpka, 06001101

COLORADO

Gunnison County

Chance Gulch Site, Address Restricted, Gunnison, 06001102

MONTANA

Gallatin County

Manhattan Masonic Hall, 301 Railroad Ave. W, Manhattan, 06001103

NORTH CAROLINA

Buncombe County

Raoul, Thomas Wadley, House, 394 Vanderbilt Rd., Asheville, 06001105

Burke County

Franklin—Penland House, 8646 NC 183, Linville Falls, 06001106

Lenoir County

Kinston Battlefield, 1.5 mi. S of Kinston on U.S. 258; 2-3 mi. S of Kinston on U.S. 258; 3 mi. S of Kinston on NC 58; 4 mi. S of Kinston on 258, Kinston, 06001104

Transylvania County

Morrow, Royal and Louise, House, (Transylvania County MPS) 630 E. Main St., Brevard, 06001107

Orr, Charles E., House, (Transylvania County MPS) 334 E. Main St., Brevard, 06001108

Wake County

Adams—Edwards House, (Wake County MPS) 5400 Tryon Rd., Raleigh, 06001109

OKLAHOMA

Carter County

Central Park Bandstand, SW jct. of W Main and E St. SW in about the middle of Central Park, Ardmore, 06001111

Cherokee County

Park Hill Mission Cemetery, South Park Hill Rd, 0.5 mi. S of East Murrell Rd., Park Hill, 06001113

Coal County

Merchants National Bank Building, SW corner of Main and Railway Sts., Lehigh, 06001112

Garfield County

Waverley Historic District, Roughly bounded by W Broadway Ave., N and S Tyler Sts.,S. Harrison St., W. Oklahoma St. and N and S Bachanan Sts., Enid, 06001110

Muskogee County

Muskogee Depot and Freight District, Roughly bounded by Columbus Ave., S. Main St., Elgin Ave., and S 5th St., Muskogee, 06001114

Okmulgee County

Nichols Park, 1.9 mi. S of jct of Lake Rd. and Main St., Henryetta, 06001115

VERMONT

Franklin County

Willard Manufacturing Company Building, 25 Stowell St., St. Albans, 06001116

WISCONSIN

Dunn County

Evergreen Cemetery, N end of Shorewood Dr., Menomonie, 06001117

[FR Doc. E6-18946 Filed 11-8-06; 8:45 am]

BILLING CODE 4312-51-P